DEPARTMENT OF COMMERCE

National Oceanic and Atmospheric Administration

50 CFR Part 648

[Docket No. 071030625-8130-02]

RIN 0648-XC84

Fisheries of the Northeastern United States; Summer Flounder, Scup, and Black Sea Bass Fisheries; 2008 Scup Specifications; Correction

AGENCY: National Marine Fisheries Service (NMFS), National Oceanic and Atmospheric Administration (NOAA), Commerce.

ACTION: Final rule; correction.

SUMMARY: On December 31, 2007, NMFS published in the Federal Register a final rule containing final specifications for the 2008 scup fishery. Inadvertently, table 3 of the final rule contained incorrect values for the 2008 Adjusted Quota Less Overages and Research Set-Aside (RSA) for the scup quota periods. This document corrects those values.

DATES: Effective February 25, 2008, through December 31, 2008.

FOR FURTHER INFORMATION CONTACT: Emily Bryant, Fishery Management Specialist, (978) 281-9244.

SUPPLEMENTARY INFORMATION: The final rule, including final quota specifications for the summer flounder, scup, and black sea bass fisheries, was published in the Federal Register on December 31, 2007 (72 FR 74197). Table 3 incorrectly lists the following Adjusted Quota Less Overages and RSA values for the scup quota periods: Winter I (2,367,373 lb, 1,074 mt), Summer (1,419,220 lb, 644 mt), Winter II (836,531 lb, 379 mt), and Total (4,623,124 lb, 2,097 mt). The correct amounts for the 2008 scup Adjusted Quota Less Overages and RSA are as follows: Winter I is 2,388,611 lb (1,083 mt); Summer is 1,437,558 lb (652 mt); Winter II is 844,036 lb (383 mt); and Total is 4,670,204 lb (2,118 mt).

Classification

Pursuant to 5 U.S.C. 553(b)(B), the Assistant Administrator finds good cause to waive prior notice and opportunity for additional public comment for this action because any delay of this action would be contrary to the public interest. As explained above, this rule corrects values for the 2008 Adjusted Quota Less Overages and RSA that had already been published in the Federal Register. To delay this correction notice will cause confusion over the available 2008 scup quota. The correct values for the adjusted quotas are greater than the values currently published in the Federal Register and a delay may negatively impact fishermen during the current Winter I quota period (January - April), who may not be able to harvest the full amount of quota allocated to the fishery. Moreover, pursuant to 5 U.S.C. 553(d), the Assistant Administrator finds good cause to waive the 30-day delay in effective date for the reasons given above. Delaying the rule for 30 days may negatively impact fishermen because the correct quota value for all quota periods, including the current Winter I period, are greater than the published values. This may lead to less quota being harvested for the Winter I period than is actually allocated to fishermen.

Correction

Accordingly, the final rule FR Doc. 07-6252, published on December 31, 2007 (72 FR 74197), is corrected as follows:

1. On page 74199, in Table 3, the Adjusted quota less overages and RSA found in columns 11 and 12 for the Winter I Quota period in row 1 are corrected to read “2,388,611” lb and “1,083” mt, respectively.

2. On page 74199, in Table 3, the Adjusted quota less overages and RSA found in columns 11 and 12 for the Summer Quota period in row 2 are corrected to read “1,437,558” lb and “652” mt, respectively.

3. On page 74200, in Table 3, the Adjusted quota less overages and RSA found in columns 11 and 12 for the Winter II Quota period in row 3 are corrected to read “844,036” lb and “383” mt, respectively.

4. On page 74200, in Table 3, the Adjusted quota less overages and RSA found in columns 11 and 12 for the Total Quota in row 4 are corrected to read “4,670,204” lb and “2,118” mt, respectively.

Dated: February 19, 2008.
Samuel D. Rauch III,
Deputy Assistant Administrator for Regulatory Programs, National Marine Fisheries Service.

[FR Doc. E8-3522 Filed 2-22-08; 8:45 am]

BILLING CODE 3510-22-S